DEPARTMENT OF THE INTERIOR

Fish and Wildlife Service

[FWS-R6-R-2012-N183; FF06R06000-FXRS1266066CCP0S3-123]

Charles M. Russell National Wildlife Refuge and UL Bend National Wildlife Refuge, MT; Availability of Record of Decision for the Final Comprehensive Conservation Plan and Final Environmental Impact Statement

AGENCY: Fish and Wildlife Service, Interior.

ACTION: Notice of availability.

SUMMARY: We, the U.S. Fish and Wildlife Service (Service), announce the availability of a record of decision (ROD) for the final comprehensive conservation plan (CCP) and final environmental impact statement (EIS) for Charles M. Russell and UL Bend National Wildlife Refuges (NWRs, Refuges).

ADDRESSES: You may view or obtain copies of the ROD, the final CCP and final EIS, or other project information by any of the following methods:

Agency Web site: Download a copy of the documents at www.fws.gov/cmr/planning.

Email: cmrplanning@fws.gov. Include “Request copy of Charles M. Russell NWR ROD” in the subject line of the message.

U.S. mail: Charles M. Russell NWR, P.O. Box 110, Lewistown, MT 59457.

In-Person Viewing or Pickup: Call 406-538-8706 to make an appointment during regular business hours at Charles M. Russell NWR Headquarters, Airport Road, Lewistown, MT 59457.

Local Libraries: The final documents are available for review at the libraries listed under SUPPLEMENTARY INFORMATION.

FOR FURTHER INFORMATION CONTACT: Richard Potts, Project Leader, at 406-538-8706 (phone), or Laurie Shannon, Planning Team Leader, 303-236-4317 (phone) or laurie_shannon@fws.gov (email).

SUPPLEMENTARY INFORMATION:

Introduction

With this notice, we finalize the CCP process for Charles M. Russell and UL Bend NWRs. We started this process through a notice in the Federal Register (72 FR 68174, December 4, 2007). Following a lengthy scoping and alternatives development period, we published a second notice in the Federal Register (75 FR 54381, September 7, 2010), announcing the availability of the draft CCP and draft EIS and our intention to hold public meetings, and requesting comments. We then published a third notice in the Federal Register (75 FR 67095, November 1, 2010), extending the comment period by 24 days to December 10, 2010.

Charles M. Russell and UL Bend NWRs encompass nearly 1.1 million acres, including Fort Peck Reservoir in north central Montana. The Refuges extend about 125 air miles west from Fort Peck Dam to the western edge at the boundary of the Upper Missouri Breaks National Monument. UL Bend NWR lies within Charles M. Russell NWR. In essence, UL Bend NWR is a refuge within a refuge, and the two refuges are managed as one unit and referred to as Charles M. Russell NWR. Refuge habitat includes native prairie, forested coulees, river bottoms, and badlands. Wildlife is as diverse as the topography and includes Rocky Mountain elk, mule deer, white-tailed deer, pronghorn, Rocky Mountain bighorn sheep, sharp-tailed grouse, greater sage-grouse, Sprague's pipit, black-footed ferrets, prairie dogs, and more than 236 species of birds.

In accordance with National Environmental Policy Act (NEPA) (40 CFR 1506.6(b)) requirements, this notice announces the availability of the ROD for the final CCP and final EIS for Charles M. Russell NWR and UL Bend NWR. We completed a thorough analysis of the environmental, social, and economic considerations associated with our actions. The ROD documents our selection of alternative D, the preferred alternative.

The CCP will guide us in managing and administering Charles M. Russell NWR and UL Bend NWR for the next 15 years. Alternative D, as we described in the final EIS/ROD, is the foundation for the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. We will review and update the CCP at least every 15 years in accordance with the Administration Act.

CCP Alternatives and Selected Alternative

Our final CCP and final EIS (77 FR 26781; May 7, 2012) addressed several issues. To address these, we developed and evaluated the following alternatives: Alternative A—No Action, Alternative B—Wildlife Population Emphasis, Alternative C—Public Use and Economic Use Emphasis, and Alternative D—Ecological Processes Emphasis.

After consideration of 24,600 comments that we received on the draft CCP and draft EIS and several minor comments we received following the release of the final CCP and final EIS, we have selected alternative D—Ecological Processes Emphasis. It is the alternative that best meets the purposes of the refuges; the mission of the National Wildlife Refuge System; the vision and management goals set for the refuge; and also adheres to Service policies and guidelines. It considers the interests and perspectives of many agencies, organization, tribes, and the public. Additionally, it is the environmentally preferred alternative.

Under alternative D and in cooperation with our partners, we would use natural, dynamic, ecological processes, and management activities in a balanced, responsible manner to restore and maintain the biological diversity, biological integrity, and environmental health of the Refuge. Once natural processes are restored, a more passive approach (less human assistance) would be favored. There would be quality wildlife-dependent public uses and experiences. Economic uses would be limited when they are injurious to ecological processes.

Public Availability of Documents

In addition to the using any of the methods listed under ADDRESSES, you can view or obtain a copy of the final CCP and final EIS at any of the following public libraries:

Library | Address | Phone No.
Garfield County | 228 E. Main, Jordan MT 59337 | 406-557-2297
Glasgow | 408 3rd Avenue, Glasgow MT 59230 | 406-228-2731
Great Falls | 301 2nd Avenue, Great Falls MT 59401 | 406-453-0349
Lewistown | 701 W. Main, Lewistown MT 59457 | 406-538-5212
McCone County | 1101 C Avenue, Circle, MT 59215 | 406-485-2350
Petroleum County | 205 S. Broadway, Winnett, MT 59087 | 406-429-2451
Phillips County | 10 S. 4th Street E., Malta, MT 59538 | 406-542-2407
Montana State University-Billings | 1500 University Drive, Billings, MT 59101 | 406-657-2011
Montana State University-Bozeman | Roland R. Renne Library, Centennial Mall, Bozeman, MT 59717 | 406-994-3171
Montana State University-Havre | Northern Vande Bogart Library, Cowan Drive, Havre, MT 59501 | 406-265-3706
University of Montana | Mansfield Library, 32 Campus Drive, Missoula, MT 59812 | 406-243-6860
Colorado State University | Morgan Library, 501 University Avenue, Fort Collins, CO 80523 | 970-491-1841

Dated: July 27, 2012.
Noreen E. Walsh,
Acting Regional Director, Mountain-Prairie Region, U.S. Fish and Wildlife Service.

[FR Doc. 2012-27610 Filed 11-13-12; 8:45 am]

BILLING CODE 4310-55-P